ENVIRONMENTAL PROTECTION AGENCY

[FRL-10013-52-Region 3]

Clean Water Act: Maryland-City of Annapolis and Anne Arundel County Vessel Sewage No-Discharge Zone for Thirteen Waters—Tentative Affirmative Determination

AGENCY: Environmental Protection Agency (EPA).

ACTION: Notice of tentative affirmative determination.

SUMMARY: Notice is hereby given that an application for a no-discharge zone has been received from the Secretary of Natural Resources and Secretary of the Environment on behalf of the State of Maryland requesting a determination by the Regional Administrator, U.S. Environmental Protection Agency (EPA), Region 3, that adequate facilities for the safe and sanitary removal and treatment of sewage from all vessels are reasonably available for thirteen waters located in the City of Annapolis and Anne Arundel County, Maryland, pursuant to the Clean Water Act. The EPA is requesting comments on this application and whether EPA should finalize its tentative affirmative determination, or make a negative determination, on the proposed designation of a no-discharge zone for all and/or any of the thirteen waters located in the City of Annapolis and Anne Arundel County as provided in the Clean Water Act. The application is available upon request from EPA (at the email address below) or at https://dnr.maryland.gov/boating/Documents/AANDZApplication.pdf.

DATES: Comments must be received in writing to EPA on or before October 23, 2020.

ADDRESSES: Comments should be sent to Matthew A. Konfirst, U.S. Environmental Protection Agency—Mid-Atlantic Region, 1650 Arch Street, Mail Code 3WD31, Philadelphia, PA 19103-2029, or emailed to konfirst.matthew@epa.gov. Only written comments will be considered.

FOR FURTHER INFORMATION CONTACT: Matthew A. Konfirst, U.S. Environmental Protection Agency -Region III. Telephone: (215) 814-5801, Fax number: (215) 814-5007; email address: konfirst.matthew@epa.gov.

SUPPLEMENTARY INFORMATION: This proposed sewage no-discharge zone includes 13 water bodies wholly within Anne Arundel County (Stoney Creek, Rock Creek, Bodkin Creek, the Atlantic Marina Resort, Magothy and Little Magothy Rivers, Severn River, South River, West and Rhode Rivers, Podickory Creek, Sandy Point/Mezick Ponds, Whitehall Bay, Oyster Cove and Fishing Creek). While these waterbodies constitute nearly all of the county's waters, a few water bodies have been excluded. The exclusions include two inter-jurisdictional rivers that border the county (the Patapsco River and Patuxent River), as well as Curtis Creek, which creates additional inter-jurisdictional complications for no-discharge zone management and is also the most heavily industrialized creek in the county with limited recreational boating activity. Maryland's proposed NDZ for the 13 water bodies if approved would total 27,379 acres, which would add to the 3,500 acres of the Herring Bay no-discharge zone that was approved in 2002. (67 FR 1352, January 10, 2002). Maryland has requested that should EPA determine that one (or more) of the 13 creeks, bays, or rivers do not meet the criteria for NDZ designation, such individual part be denied independently from the remaining waters in the application as a whole. As described in Maryland's application, local entities undertook robust public outreach and held a number of public meetings with boaters and other stakeholders.

Waterbody | Waterbody limits |  |  | Area (acres)
Stony Creek | 39.1723° N, 76.5171° W | to | 39.1725° N, 76.5126° W | 677
Rock Creek | 39.1614° N, 76.5004° W | to | 39.1625° N, 76.4862° W | 524
South Shore, Patapsco River | 39.1472° N, 76.4588° W | to | 39.1471° N, 76.4587° W | 2
Bodkin Creek | 39.1346 ° N, 76.4398° W | to | 39.1321° N, 76.4378° W | 609
Magothy and Little Magothy Rivers | 39.0597° N, 76.4332° W | to | 39.0527° N, 76.4382° W | 5,879
Podickory Creek | 39.0328° N, 76.4040° W | to | 39.0317° N, 76.4048° W | 9
Sandy Point/Mezick Ponds | 39.0082° N, 76.4031° W | to | 39.0081° N, 76.4033° W | 47
Whitehall Bay | 39.9748° N, 76.4547° W | to | 38.9871° N, 76.4268° W | 1,599
Severn River | 39.9748° W, 76.4547° N | to | 39.9411° N, 76.4502° W | 7,497
Oyster Creek | 38.9273° N, 76.4628° W | to | 38.9272° N, 76.4623° W | 34
Fishing Creek | 38.9147° N, 76.4590° W | to | 38.9073° N, 76.4600° W | 228
South River | 38.9073° N, 76.4600° W | to | 38.4848° N, 76.4908° W | 5,904
West and Rhode Rivers | 38.4848° N, 76.4908° W | to | 38.8531° N, 76.4959° W | 4,370
Total Area |  |  |  | 27,379

The criteria for EPA to make its determination are based on Clean Water Act 312(f), 33 U.S.C. 1322(f), and EPA's implementing regulations found at 40 CFR 140.4. A detailed EPA guidance document entitled “Protecting Coastal Waters from Vessel and Marina Discharges: A Guide for State and Local Officials, Volume 1. Establishing No-Discharge Areas under section 312 of the Clean Water Act (EPA 842-B-94-004, August 1994)” provides additional detail and informs EPA's analysis. The two primary criteria upon which an affirmative decision is based are: (1) A certifying statement of need by the state that the waters described in the application require greater environmental protection; and (2) demonstration by the state that there are adequate vessel sewage pumpout facilities available to the boating public, in lieu of direct discharge of treated sewage into the waters described in the application.

In the application, Maryland certified that the waters of the City of Annapolis and Anne Arundel County require greater environmental protection than provided by currently applicable Federal regulations. All Anne Arundel County tributaries drain into the Chesapeake Bay. The Magothy River, White Hall Bay/Meredith River, Severn River, South River, Rhode River and West River have been listed on current or previous Clean Water Act 303(d) lists of impaired waters by Maryland as impaired for shellfish harvesting due to fecal coliform. As such, many shellfish beds are restricted or closed. All except White Hall Bay/Meredith Creek are also impaired for nutrients (nitrogen and phosphorus) and all except the White Hall Bay/Meredith Creek and West River for total suspended solids (TSS). While marine sanitation devices lower fecal coliform levels, they do not effectively eliminate nutrients or solids. A no-discharge zone is expected to help reduce levels of nutrients, total suspended solids, and fecal coliform within these impaired waters.

Anne Arundel County, Maryland, supports a long history of boating, highlighted by the establishment in 1845 of the U.S. Naval Academy in the county seat and state capital, Annapolis, along with active centers of boat-building, fishing, crabbing, and oystering from the earliest settlements into the 1980s. In recent decades, commercial vessels have largely given way to so much recreational boating that Annapolis is well known as “The Nation's Sailing Capital.” The U.S. Sailboat and Powerboat Shows, held annually in Annapolis each October since 1970, are the largest in-the-water boat shows in the United States. The 2017 Portbook lists 96 recreational boating businesses in Anne Arundel County; and identifies several more that support and depend on recreational crabbing and fishing.

Maryland provided documentation indicating that the maximum total vessel population is estimated to be 29,789 vessels, the majority of which are recreational. The most conservative vessel population estimates provided by Maryland suggest that there are 7,182 vessels less than 16 feet in length, 10,307 vessels between 16 feet and 26 feet in length, 9,072 vessels between 26 feet and 40 feet in length, and 3,228 vessels greater than 40 feet in length. Commercial traffic on these waterways is limited to boat rental companies, public charter boats and several small cruise ships. Based on the number and size of vessels and EPA guidance, the estimated number of vessels requiring pumpout facilities in the City of Annapolis and Anne Arundel County during peak occupancy is 2,924 vessels.

Based on the boater population in the City of Annapolis and Anne Arundel County, EPA guidance recommends that 46 pumpout facilities are needed to adequately service the vessel population. Maryland certified that there are 63 marinas offering public pumpout service, including 60 stationary units, nine portable units and three mobile pumpout boats. A list of the facilities, phone numbers, locations and hours of operation follows.

Station | Location | Phone | Hours | Depth | Off season operation | Limited overhead | Address
AREA: PATAPSCO RIVER (11):
Atlantic Marina Resort | Patapsco River (mouth) | 410-437-6926 | 9-5 Daily | 4′ | No | NA | 2010 Knollview Ave, Pasadena, MD 21122.
Blake's Bar Harbor | Patapsco River Rock Creek | 410-255-5500 | 8-6 Daily | 4′ | No | NA | 208 Bar Harbor Rd, Pasadena, MD 21122.
Fairview Marina | Patapsco River Rock Creek | 410-437-3400 | Mon-Fri 8-4; Sat-Sun 8-3 | 5′ | No | NA | 1575 Fairview Beach Rd, Pasadena, MD 21122.
Hammock Island Marina | Patapsco River Bodkin Creek | 410-437-1870 | 10-4 daily | 7′ | No | NA | 8083 Ventnor Rd, Pasadena, MD 21122.
Maryland Yacht Club | Patapsco River Rock Creek | 410-255-4444 | 8-4 daily | 17′ | Yes | NA | 1500 Fairview Beach Rd, Pasadena, MD 21122.
Nabbs Creek Marina | Patapsco River Stoney Creek | 410-437-0402 | 8:30-5 daily | 6′ | No | Yes | 864 Nabbs Creek Rd, Glen Burnie, MD 21060.
Oak Harbor Marina | Patapsco River Rock Creek | 410-255-4070 | 24-7 | 15′ | No | NA | 1343 Old Water Oak Point Rd, Pasadena, MD 21122.
Pasadena Yacht Yard | Patapsco River Rock Creek | 410-255-1771 | 9-5 daily | 4′ | No | NA | 8631 Fort Smallwood Road Pasadena, MD 21122.
Pleasure Cove Marina | Patapsco River Bodkin Creek | 410-437-6600 | Mon-Thur 9-6; Fri-Sun 9-8 | 8′ | Yes | NA | 1701 Poplar Ridge Rd, Pasadena, MD 21122.
Ventnor Marina | Patapsco River Bodkin Creek | 410-255-4100 | 9-5 daily | 10′ | Yes | NA | 8070 Ventnor Rd, Pasadena, MD 21122.
White Rocks Marina & Boatyard | Patapsco River Rock Creek | 410-255-3800 | Mon-Fri 9-3; Sat 11-2 | 14′ | No | NA | 1402 Colony Rd, Pasadena, MD 21122.
AREA: MAGOTHY RIVER (7):
Atlantic Marina on the Magothy | Magothy River/Grays Creek | 410-360-2500 | 9-5 daily | 6′ | No | NA | 487 New York Ave, Pasadena, MD 21122.
Fairwinds Marina | Magothy Marina | 410-974-0758 | 8-5 daily | 6′ | No | NA | 1000 Fairwinds Dr, Annapolis, MD 21409.
Ferry Point Marina | Magothy River/Mill Creek | 410-544-6368 | 7am-8pm daily | 14′ | Yes | NA | 1606 Marina Dr, Trappe, MD 21673.
Hamilton Harbour Marina | Magothy River | 410-647-0733 | Thurs-Tues 9-5 | 12′ | No | NA | 368 North Dr, Severna Park, MD 21146.
Hinckley Yachts | Whitehall Creek | 443-951-4380 | M-F 8-9; S/S by appt. | 11′ | Yes | NA | 1656 Homewood Landing Road, Annapolis, MD 21409.
Magothy Marina | Magothy River | 410-647-2356 | Mon-Thur 8-6, Fri-Sun 8-8 | 16′ | No | NA | 360 Magothy Rd, Severna Park, MD 21146.
Podickory Point Yacht Club | Chesapeake Bay | 410-757-8000 | 9-5 daily | 5′ | No | NA | 2116 Bay Front Terrace, Annapolis, MD 21409.
Sandy Point State Park | Chesapeake Bay | 410-974-2149 | 24-7 | 6′ | No | NA | 1100 E College Pkwy, Annapolis, MD 21409.
AREA: SEVERN RIVER (17):
Annapolis City Marina | Severn River Spa Creek | 410-268-0660 | 8-8 daily | 14′ | Upon Request | NA | 410 Severn Ave, Annapolis, MD 21403.
Annapolis Landing Marina | Severn River Back Creek | 410-263-0090 | 10-5 daily | 6′ | No | NA | 980 Awald Rd, Annapolis, MD 21403.
Annapolis Maryland Capital Yacht Club | Severn River Back Creek | 410-269-5219 | 9-5 daily | 8′ | No | NA | 16 Chesapeake Landing, Annapolis, MD 21403.
Bert Jabin's Yacht Yard | Severn River Back Creek | 410-268-9667 | 8-4:30 daily | 8′ | No | NA | 7310 Edgewood Rd, Annapolis, MD 21403.
Chesapeake Harbour Marina | Chesapeake Bay | 410-268-1969 | 9-5 daily | 8′ | No | NA | 2030 Chesapeake Harbour Dr E, Annapolis, MD 21403.
City of Annapolis Pumpout Boat | Severn River Spa Creek | 410-320-6852 | Mon-Sat 8-4:30 | na | na | NA | na.
Eastport Yacht Center | Severn River Back Creek | 410-280-9988 | 8-4 daily | 8′ | No | NA | 726 2nd St, Annapolis, MD 21403.
Horn Point Harbour Marina | Severn River Back Creek | 410-263-0550 | 9-5 daily | 8′ | No | NA | 105 Eastern Ave, Annapolis, MD 21403.
JPort Marina | Severn River Back Creek | 410-280-8692 | 9-5 daily | 9′ | No | NA | 7074 Bembe Beach Rd, Annapolis, MD 21403.
Little John Marina | Severn River Brewer Creek | 410-841-6491 | 9-5 daily | 15′ | No | NA | 134 Sherwood Forest Road, Sherwood Forest, MD 21405.
Mears Marina | Severn River Back Creek | 410-268-8282 | 24-7 | 10′ | No | NA | 519 Chester Ave, Annapolis, MD 21403.
Pines on the Severn | Severn River/Chase Creek | 410-370-2948 | 24-7 | 10′ | No | NA | 21012, Arnold, MD 21012.
Port Annapolis Marina | Severn River Back Creek | 410-269-1990 | 8-4:30 daily | 10′ | Yes | NA | 7074 Bembe Beach Rd, Annapolis, MD 21403.
Smith's Marina | Severn River Little Round Bay | 410-923-3444 | 8-8 daily | 7′ | No | Yes | 529 Ridgley Rd, Crownsville, MD 21032.
The President Point | Severn River Spa Creek | 410-991-9381 | 7-7 daily | 5′ | No | NA |
Watergate Pointe Marina | Severn River/Back Creek | 443-926-1303 | 24-7 | 7′ | No | NA | 655 Americana Dr, Annapolis, MD 21403.
Yacht Haven of Annapolis | Severn River Spa Creek | 410-267-7654 | Mon-Fri 7:30-4:30 | 11′ | No | NA | 326 First St, Annapolis, MD 21403.
AREA: SOUTH RIVER (13):
Anchor Yacht Basin | South River Selby Bay | 410-798-1431 | 8-5 daily | 5′ | No | NA | 1048 Turkey Point Rd, Edgewater, MD 21037.
Arundel on the Bay | South River/Fishing Creek | 443-253-0596 | dawn to dusk | 4-6′ | Yes | NA | P.O. Box 4665, Annapolis.
Fishing Creek | South River Duvall Creek |  | 24-7 | 7′ | No | NA | 122 Cherry Lane, Annapolis 21403.
Holiday Point Marina | South River Selby Bay | 410-956-2208 | Mon-Fri 7:30-4; Sat by appointment | 6′ | Yes | NA | 3774 Beach Dr Blvd # C, Edgewater, MD 21037.
Liberty Marina | South River | 410-266-5633 | 8-4:30 daily | 15′ | Yes | Yes | 64 Old South River Rd, Edgewater, MD 21037.
Mayo Ridge Marina | South River Ramsey Lake | 410-798-1952 | 9-7 daily | 5′ | Yes | NA | 1293 Mayo Ridge Rd, Edgewater, MD 21037.
Norris Marina | South River Ramsey Lake | 410-798-0275 | 8-4 daily | 8′ | No | Yes | 1111 Turkey Point Rd, Edgewater, MD 21037.
Oak Grove Marine Center | South River | 410-266-6696 | Mon-Fri 10-6; Sat-Sun 8-7 | 9′ | No | NA | 2820 Solomons Island Rd, Edgewater, MD 21037.
Oyster Harbor | South River/Oyster Creek | 410-280-8999 | 24-7 | 6′ | No | NA | P.O. Box 3174, Annapolis.
Pier 7 Marina | South River | 410-956-2288 | 9-5 daily | 12′ | No | Yes | 48 S River Road South, Edgewater, MD 21037.
Pocahontas Marina | South River/Pocahontas Creek | 410-533-8752 | 24-7 | 10′ | Yes | NA | 3365 Pocahontas Drive Edgewater, MD 21037.
Selby Bay Marina | South River Selby Bay | 410-798-0232 | 9-5 daily | 8′ | Yes | NA | 931 Selby Blvd, Edgewater, MD 21037.
Turkey Point Marina | South River Ramsey Lake | 410-798-1369 | Tues-Sat 9-5 | 4′ | No | No | 1107 Turkey Point Rd, Edgewater, MD 21037.
AREA: RHODE RIVER (5):
Blue Water Marina | Rhode River, Bear Neck Creek | 410-798-6968 | 10-5 daily | 10′ | No | NA | 1024 Carrs Wharf Rd, Edgewater, MD 21037.
Cadle Creek Marina | Rhode River Cadle Creek | 410-798-1915 | 9-5 daily | 6′ | No | NA | 4159 Cadle Creek Rd, Edgewater, MD 21037.
Casa Rio Marina | Rhode River Cadle Creek | 410-798-4731 | Mon-Fri 8-4 | 5′ | Yes | NA | 4079 Cadle Creek Rd, Mayo, MD 21106.
Rhode River Marina | Rhode River Back Neck Creek | 410-798-1658 | 8-5 daily | 9′ | No | NA | 3932 Germantown Rd, Edgewater, MD 21037.
West/Rhode Riverkeeper Pumpout Boat | Rhode River | 443-221-5104 or VHF channel 71 | Fri-Mon 8-6 |  | No | NA | 4800 Atwell Road, Edgewater, MD 21037.
AREA: WEST RIVER (7):
Backyard Boats | West River/Parrish Creek | 301-261-5115 | 8-4 daily | 10′ | Yes | NA | 4819 Woods Wharf Rd Shady Side, MD 20764.
Chesapeake Yacht Club | West River | 410-867-1500 | Wed-Mon 9-4 | 8′ | No | NA | 4943 Hine Dr, Shady Side, MD 20764.
Hartge Yacht Harbor | West River | 443-607-6306 | Mon-Fri 8-5; Sat & Sun 9-5 | 10′ | No | NA | 4883 Church Ln, Galesville, MD 20765.
Shady Oaks Marina | West River | 410-267-1808 | 8-8 daily | 5′ | No | NA | 846 Shady Oaks Rd, West River, MD 20778.
West/Rhode River Keeper Pump out | West River | 443-221-5104 or VHF channel 71 | Fri-Mon 8-6 |  | No | NA | 4800 Atwell Road, Edgewater, MD 21037.
West River Fuel Dock | West River | 410-867-1444 | M-Th 9-5 S/S 8-6 Fri 9-6 | 8′ | No | NA | 4801 Riverside Dr. Galesville, MD 20765.
West River Yacht Harbor Condo | West River | 301-672-3473 | 8-6 daily | 7′ | Yes | NA | 4801 Riverside Dr, Galesville, MD 20765.
AREA: WHITEHALL BAY (1):
John L. Dunning Memorial Pier | Mill Creek/Mill Creek Cove | 410-293-9202 | 9-5 Mon-Sun | 12′ | Yes | NA | 140 Hooper High Rd. Annapolis, MD 21403.

The use of these facilities imposes minimal cost. As shown in the table below, pumpout facilities located within the proposed no-discharge zone charge fees that range from $3.00 to $50.00, with 55 of 63 available facilities charging $5.00 or less, including 15 facilities that are free to use. According to Maryland's application, the majority of commercial vessels operating in the proposed no-discharge zone are already equipped with holding tank capacity and therefore are not expected to experience incremental cost increases associated with a designation.

Fee | Number of pumpout facilities | Proportion of pumpout facilities (%)
Free | 15 | 24
$3 | 1 | 1.5
$5 | 39 | 62
$10 | 5 | 8
$15 | 2 | 3
$50 | 1 | 1.5
Total | 63 | 100

Based on the information above, EPA hereby makes a tentative affirmative determination that adequate facilities for the safe and sanitary removal and treatment of sewage from all vessels are reasonably available for all thirteen waters located in the City of Annapolis and Anne Arundel County.

Dated: September 17, 2020.
Cosmo Servidio,
Regional Administrator, EPA Region III.

[FR Doc. 2020-20957 Filed 9-22-20; 8:45 am]

BILLING CODE 6560-50-P